CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its Senior Corps Grant Application (424-NSSC)—reference OMB Control Number 3045-0035, with an expiration date of April 30, 2008. The Corporation proposes to renew the Senior Corps Grant Application without significant changes. The modifications proposed by the Corporation for this renewal are limited to language changes to the application instructions:

• Remove the term “non-impact” work plan and replace with “work plan” to clarify and simplify for applicants;

• Update the “Required Documents” list to specify that applicants send the 990 Financial Form in the event that the organization does not meet the threshold for an A-133 audit.

Copies of the information collection can be obtained by contacting the office listed in the address section of this notice.

DATES: Written comments must be submitted to the individual and office listed in the ADDRESSES section by February 5, 2008.

ADDRESSES: You may submit comments, identified by the title of the information collection activity, by any of the following methods:

(1) By mail sent to: Corporation for National and Community Service, Senior Corps; Attention Ms. Angela Roberts, Associate Director, Room 9401; 1201 New York Avenue, NW., Washington, DC 20525. (2) By hand delivery or by courier to the Corporation's mailroom on the 8th Floor at the mail address given in paragraph (1) above, between 9 a.m. and 4 p.m. Monday through Friday, except Federal holidays. (3) By fax to: (202) 606-3475, Attention Ms. Angela Roberts, Associate Director. (4) Electronically through the Corporation's e-mail address system: aroberts@cns.gov.

FOR FURTHER INFORMATION CONTACT: Angela Roberts, (202) 606-6822 or by e-mail at aroberts@cns.gov.

SUPPLEMENTARY INFORMATION: The Corporation is particularly interested in comments that:

Evaluate whether the proposed collection of information is necessary for the proper performance of the functions of the Corporation, including whether the information will have practical utility;

Evaluate the accuracy of the agency's estimate of the burden of the proposed collection of information, including the validity of the methodology and assumptions used; Enhance the quality, utility, and clarity of the information to be collected; and

Minimize the burden of the collection of information on those who are expected to respond, including the use of appropriate automated, electronic, mechanical, or other technological collection techniques or other forms of information technology (e.g., permitting electronic submissions of responses).

Background: The Senior Corps Grant Application is completed by applicant organizations interested in sponsoring a Senior Corps program. The application is completed electronically using the Corporation's Web-based grants management system, eGrants.

Current Action: The Corporation seeks to renew the current application without significant change. Revisions are limited to minor language changes in the Application Instructions to facilitate ease of use by applicants. The current application is due to expire on April 30, 2008.

Type of Review: Renewal.

Agency: Corporation for National and Community Service.

Title: National Senior Service Corps Grant Application.

OMB Number: 3045-0035.

Agency Number: SF 424-NSSC.

Affected Public: Current and prospective sponsors of National Senior Service Corps Grants.

Total Respondents: 1,350.

Frequency: Annually, with exceptions.

Average Time Per Response: Averages 13.2 hours. Estimated at 16.5 hours for first time respondents; 15 hours for continuation sponsors; 5 hours for revisions.

Estimated Total Burden Hours: 17,820 hours.

Total Burden Cost (capital/startup): None.

Total Burden Cost (operating/maintenance): $6,497.

Comments submitted in response to this notice will be summarized and/or included in the request for Office of Management and Budget approval of the information collection request; they will also become a matter of public record.

Dated: November 30, 2007.
Tess Scannell,
Director, Senior Corps.

[FR Doc. E7-23793 Filed 12-6-07; 8:45 am]

BILLING CODE 6050-$$-P